DEPARTMENT OF AGRICULTURE

Agricultural Marketing Service

[Doc. No. AMS-NOP-24-0082]

National Organic Standards Board Call for Nominations

AGENCY: Agricultural Marketing Service, USDA.

ACTION: Notice; call for nominations.

SUMMARY: Through this Notice, the U.S. Department of Agriculture (USDA) is announcing its call for nominations to fill five vacancies on the National Organic Standards Board (NOSB): two individuals who own or operate an organic farming operation or employees of such individuals; two individuals who represent public interest or consumer interest groups; and one individual who is a USDA accredited certifying agent. Appointees will serve a 5-year term beginning in January 2026 and ending in January 2031. Additionally, USDA seeks nominations for a pool of candidates that the Secretary of Agriculture can draw upon as replacement appointees if unexpected vacancies occur.

DATES: Application packages must be received by mail or postmarked on or before September 9, 2025.

ADDRESSES: Applications can be sent via email to Michelle Arsenault at Michelle.Arsenault@usda.gov or mailed to: USDA-AMS-NOP, 1400 Independence Avenue SW, Room 2642-S, Ag Stop 0268, Washington, DC 20250-0268. Electronic submittals are preferred.

FOR FURTHER INFORMATION CONTACT: Michelle Arsenault, (202) 997-0115; email: Michelle.Arsenault@usda.gov.

SUPPLEMENTARY INFORMATION: For information on how to apply, please see the nominations process page: https://www.ams.usda.gov/rules-regulations/organic/nosb/nomination-process.

The Organic Foods Production Act (OFPA), as amended (7 U.S.C. 6501-6524), required the Secretary to establish the National Organic Standards Board (NOSB) in accordance with the Federal Advisory Committee Act. The NOSB was established to assist in the development of standards for substances to be used in organic production and to advise the Secretary on the implementation of the OFPA.

The NOSB is composed of 15 members:

• Four individuals who own or operate an organic farming operation, or employees of such individuals;

• Two individuals who own or operate an organic handling operation, or employees of such individuals;

• One individual who owns or operates a retail establishment with significant trade in organic products, or employees of such individuals;

• Three individuals with expertise in areas of environmental protection and resource conservation;

• Three individuals who represent public interest or consumer interest groups;

• One individual with expertise in the fields of toxicology, ecology, or biochemistry; and

• One individual who is a certifying agent.

Per OFPA, under 7 U.S.C. 6518, individuals seeking appointment to the NOSB must meet the qualifications for the relevant vacancy (e.g., demonstrated experience and interest in organic production and organic certification, demonstrated experience with respect to agricultural products produced and handled on certified organic farms, or experience with consumer and public interest organizations). Applicants should also consider the additional selection criteria the NOSB recommended on June 10, 1999, included below and on the following web page: https://www.ams.usda.gov/rules-regulations/organic/nosb/nomination-process.

• A general understanding of organic principles and practical experience in the organic community;

• Demonstrated experience in the development of public policy such as participation on public or private advisory boards, boards of directors, or other comparable organizations;

• Participation in standards development or involvement in educational outreach activities;

• A commitment to the integrity and growth of the organic food and fiber industry;

• The ability to evaluate technical information and to fully participate in NOSB deliberation and recommendations;

• The willingness to commit the time and energy necessary to assume NOSB duties; and

• Other such factors as may be appropriate for specific positions.

To apply, submit the following: a resume (required); Form AD-755 (required), which can be accessed at: https://www.usda.gov/sites/default/files/documents/ad-755-advisory-committee-commodity-board-background-information.pdf; a cover letter (optional); and letters of recommendation (optional). Resumes should be no longer than five (5) pages and should include the following information: the position for which you are applying; current and past organization affiliations; areas of expertise; education; career positions held; and any other notable, relevant positions held. Previous applicants who wish to be considered must reapply.

If USDA receives a request under the Freedom of Information Act (5 U.S.C. 552) for records relating to NOSB nominations, application materials may be released to the requester. Prior to the release of the information, personally identifiable information protected by the Privacy Act (5 U.S.C. 552a) will be redacted.

Equal opportunity practices, in accordance with USDA policies, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

AMS encourages submissions from qualified applicants, regardless of “persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.”

The Office of Management and Budget (OMB) previously cleared the information collection requirements concerning the nomination process under OMB Control No. 0505-0001.

Dated: July 8, 2025.
Cikena Reid,
USDA Committee Management Officer.

[FR Doc. 2025-12951 Filed 7-10-25; 8:45 am]

BILLING CODE 3410-02-P